BROADCASTING BOARD OF GOVERNORS

Sunshine Act Meeting

DATE AND TIME: Monday, February 10, 2014. 11:30 a.m. EST.

PLACE: Broadcasting Board of Governors, Cohen Building, Room 3321, 330 Independence Ave. SW., Washington, DC 20237.

SUBJECT: Notice of Special Meeting of the Broadcasting Board of Governors.

SUMMARY: The members of the Broadcasting Board of Governors (BBG) will meet in a special session, to be conducted telephonically, to discuss and approve the agency's Operating Plan for Fiscal Year 2014.

The meeting will be available for public observation via a complete audio recording and a verbatim transcript of the meeting to be promptly posted on the BBG's public Web site at www.bbg.gov.

Information regarding this meeting, including any updates or adjustments to its starting time, can also be found on the Agency's public Web site.

CONTACT PERSON FOR MORE INFORMATION: Persons interested in obtaining more information should contact Paul Kollmer-Dorsey at (202) 203-4545.

Patricia Hargrave,
Acting General Counsel.

[FR Doc. 2014-02700 Filed 2-4-14; 4:15 pm]

BILLING CODE 8610-01-P